INTERNATIONAL TRADE COMMISSION

[Investigation Nos. 731-TA-1186-1187 (Final)]

Certain Stilbenic Optical Brightening Agents From China and Taiwan

Determinations

On the basis of the record ¹ developed in the subject investigations, the United States International Trade Commission (Commission) determines, pursuant to section 735(b) of the Tariff Act of 1930 (19 U.S.C. 1673d(b)) (the Act), that an industry in the United States is materially injured by reason of imports from China and Taiwan of certain stilbenic optical brightening agents, provided for in subheadings 3204.20.80 and 2921.59.40 and may have been imported under subheadings 2921.59.80 and 2933.69.60 (statistical reporting numbers 2921.59.8090 and 2933.69.6050) of the Harmonized Tariff Schedule of the United States, that have been found by the Department of Commerce (Commerce) to be sold in the United States at less than fair value (LTFV).

¹ The record is defined in sec. 207.2(f) of the Commission's Rules of Practice and Procedure (19 CFR 207.2(f)).

Background

The Commission instituted these investigations effective March 31, 2011, following receipt of a petition filed with the Commission and Commerce by Clariant Corp., Charlotte, NC. The final phase of the investigations was scheduled by the Commission following notification of a preliminary determination by Commerce that imports of certain stilbenic optical brightening agents from China and Taiwan were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of November 25, 2011 (76 FR 72719). The hearing was held in Washington, DC, on March 15, 2012, and all persons who requested the opportunity were permitted to appear in person or by counsel.

The Commission transmitted its determinations in these investigations to the Secretary of Commerce on May 2, 2012. The views of the Commission are contained in USITC Publication 4322 (May 2012), entitled Certain Stilbenic Optical Brightening Agents from China and Taiwan: Investigation Nos. 731-TA-1186-1187 (Final).

Issued: May 2, 2012.
By order of the Commission.
James R. Holbein,
Secretary to the Commission.

[FR Doc. 2012-11010 Filed 5-7-12; 8:45 am]

BILLING CODE 7020-02-P